DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of January 16, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: November 24, 2014.
Roy E. Wright,
Deputy Associate Administrator for Mitigation, Department of Homeland Security, Federal Emergency Management Agency.

Community | Community map repository address
Carroll County, Indiana, and Incorporated Areas
Docket No.: FEMA-B-1276
City of Delphi | Carroll County Area Plan Commission, Carroll County Courthouse, 101 West Main Street, Delphi, IN 46923.
Town of Burlington | Carroll County Area Plan Commission, Carroll County Courthouse, 101 West Main Street, Delphi, IN 46923.
Town of Camden | Town Office, 153 West Main Street, Camden, IN 46917.
Town of Flora | Town Hall, 4 East Main Street, Flora, IN 46929.
Unincorporated Areas of Carroll County | Carroll County Area Plan Commission, Carroll County Courthouse, 101 West Main Street, Delphi, IN 46923.
Caroline County, Maryland, and Incorporated Areas
Docket No.: FEMA-B-1352
Town of Denton | Municipal Offices Building, 13 North 3rd Street, Denton, MD 21629.
Town of Federalsburg | Town Hall, 118 North Main Street, Federalsburg, MD 21632.
Town of Goldsboro | Town Hall, 505 Old Town Road, Goldsboro, MD 21636.
Town of Greensboro | Town Hall, 111 South Main Street, Greensboro, MD 21639.
Town of Henderson | Town Hall, 318 Henderson Road, Henderson, MD 21640.
Town of Hillsboro | Town of Hillsboro, 22043 Church Street, Hillsboro, MD 21641.
Town of Preston | Town Hall, 105 Backlanding Road, Preston, MD 21655.
Unincorporated Areas of Caroline County | Caroline County Department of Planning and Codes, Health and Public Services Building, 403 South 7th Street, Suite 210, Denton, MD 21629.
Ionia County, Michigan (All Jurisdictions)
Docket No.: FEMA-B-1348
City of Belding | City Hall, 120 South Pleasant Street, Belding, MI 48809.
City of Ionia | City Hall, 114 North Kidd Street, Ionia, MI 48846.
City of Portland | City Hall, 259 Kent Street, Portland, MI 48875.
Township of Berlin | Township of Berlin, 4947 Harwood Road, Ionia, MI 48846.
Township of Boston | Township Hall, 30 North Center Street, Saranac, MI 48881.
Township of Campbell | Township Hall, 331 South Main Street, Clarksville, MI 48815.
Township of Danby | Township Hall, 13122 Charlotte Highway, Sunfield, MI 48890.
Township of Easton | Township of Easton, 3960 Potters Road, Ionia, MI 48846.
Township of Ionia | Township Hall, 1042 East Washington Street, Ionia, MI 48846.
Township of Keene | Township Hall, 8505 Potters Road, Saranac, MI 48881.
Township of Lyons | Township Hall, 108 Prairie Street, Lyons, MI 48851.
Township of North Plains | Hubbardston Fire Station, 126 North Washington Street, Hubbardston, MI 48845.
Township of Odessa | Township Hall, 3862 Laurel Drive, Lake Odessa, MI 48849.
Township of Otisco | Township Hall, 9663 West Button Road, Belding, MI 48809.
Township of Portland | Township Hall, 773 East Grand River Avenue, Portland, MI 48875.
Village of Hubbardston | Village Hall, 306 Russell Street, Hubbardston, MI 48845.
Village of Lake Odessa | Page Memorial Building, 839 Fourth Avenue, Lake Odessa, MI 48849.
Village of Lyons | Village of Lyons Office, 212 Water Street, Lyons, MI 48851.
Village of Muir | Village Hall, 122 Superior Street, Muir, MI 48860.
Village of Saranac | Village Hall, 27 North Bridge Street, Saranac, MI 48881.
Ravalli County, Montana, and Incorporated Areas
Docket No.: FEMA-B-1261
City of Hamilton | 202 South 3rd Street, Hamilton, MT 59840.
City of Stevensville | 206 Buck Street, Stevensville, MT 59870.
Town of Darby | 101 East Tanner Avenue, Darby, MT 59829.
Unincorporated Areas of Ravalli County | 215 South 4th Avenue, Suite F, Hamilton, MT 59840.
Cass County, North Dakota, and Incorporated Areas
Docket No.: FEMA-B-1275
City of Argusville | City Hall, 201 North Highway 81, Argusville, ND 58005.
City of Briarwood | City Hall, 8 Briarwood Place, Briarwood, ND 58104.
City of Fargo | City Hall, 200 3rd Street North, Fargo, ND 58102.
City of Frontier | Frontier City Hall, 5202 32nd Street South, Fargo, ND 58104.
City of Harwood | City Hall, 114 Lind Boulevard, Harwood, ND 58042.
City of Horace | City Hall, 600 Nelson Drive, Horace, ND 58047.
City of North River | City Hall, 1409 Reed Drive, North River, ND 58102.
City of Oxbow | City Hall, 610 Evergreen Circle, Oxbow, ND 58047.
City of Prairie Rose | Prairie Rose City Hall, 3514 41st Avenue South, Fargo, ND 58104.
City of Reiles Acres | City Hall, 4635 35th Avenue North, Reiles Acres, ND 58102.
City of West Fargo | City Hall, 800 4th Avenue East, West Fargo, ND 58078.
Township of Barnes | Barnes Township Hall, 2715 Sheyenne Street, West Fargo, ND 58078.
Township of Harwood | Township Hall, 2935 170th Avenue Southeast, Harwood, ND 58042.
Township of Mapleton | Township Hall, 16522 41st Street Southeast, Mapleton, ND 58059.
Township of Pleasant | Pleasant Township Hall, 5060 173rd Avenue Southeast, Horace, ND 58047.
Township of Raymond | Raymond Township Hall, 16354 30th Street Southeast, Harwood, ND 58042.
Township of Reed | Reed Township Hall, 617 19th Avenue Northwest, West Fargo, ND 58078.
Township of Stanley | Stanley Township Hall, 7105 12th Street South, Fargo, ND 58104.
Township of Warren | Warren Township Hall, 4308 165th Avenue Southeast, Davenport, ND 58021.
Centre County, Pennsylvania (All Jurisdictions)
Docket No.: FEMA-B-1352
Township of Benner | Benner Township Office, 1224 Buffalo Run Road, Bellefonte, PA 16823.
City of Virginia Beach, Virginia (Independent City)
Docket No.: FEMA-B-1352
City of Virginia Beach | Department of Public Works, 2405 Courthouse Drive, Municipal Center Building #2, Virginia Beach, VA 23456.
York County, Virginia and Incorporated Areas
Docket No.: FEMA-B-1352
Unincorporated Areas of York County | York County Computer Support Services, 120 Alexander Hamilton Boulevard, Yorktown, VA 23690.

[FR Doc. 2014-29430 Filed 12-15-14; 8:45 am]

BILLING CODE 9110-12-P